ENVIRONMENTAL PROTECTION AGENCY

40 CFR Part 52

[PA 124-4079a; FRL-7545-4]

Approval and Promulgation of State Air Quality Plans for Designated Facilities and Pollutants, Commonwealth of Pennsylvania; Withdrawal of Direct Final Rule; Control of Landfill Gas Emissions From Existing Municipal Solid Waste Landfills

AGENCY: Environmental Protection Agency (EPA).

ACTION: Withdrawal of direct final rule.

SUMMARY: Due to our receipt of adverse written public comments, EPA is withdrawing the direct final rule to approve Pennsylvania's section 111(d) plan for the Control of Landfill Gas Emissions From Existing Municipal Solid Waste Landfills. In the direct final rule published on June 24, 2003 (68 FR 37421), EPA stated that if we received adverse written public comment by July 24, 2003, the rule would be withdrawn and would not take effect. EPA subsequently received a letter of adverse comments. EPA will address the comments received in a subsequent final action based upon the proposed action also published on June 24, 2003 (68 FR 37449). EPA will not institute a second comment period on this action.

DATE: The Direct final rule is withdrawn as of August 19, 2003.

FOR FURTHER INFORMATION CONTACT: James B. Topsale, via mail at: Air Quality Analysis Branch, Mail Code 3AP22, U.S. Environmental Protection Agency, Region III, 1650 Arch Street, Philadelphia, Pennsylvania 19103; or via telephone at: (215) 814-2190; or via e-mail at: topsale.jim@epa.gov.

List of Subjects in 40 CFR Part 62

Environmental protection, Administrative practice and procedure, Air pollution control, Aluminum, Fertilizers, Fluoride, Intergovernmental relations, Paper and paper products industry, Phosphate, Reporting and recordkeeping requirements, Sulfur oxides, Sulfur acid plants, Waste treatment and disposal.

Accordingly, the addition of §§ 62.9635, 62.9636, and 62.9637 is withdrawn as of August 19, 2003.

Dated: August 11, 2003.
Judith Katz,
Acting Regional Administrator, Region III.

[FR Doc. 03-21053 Filed 8-18-03; 8:45 am]

BILLING CODE 6560-50-P